DEPARTMENT OF TRANSPORTATION

Surface Transportation Board

[STB Finance Docket No. 34194]

The Burlington Northern and Santa Fe Railway Company-Trackage Rights Exemption—Union Pacific Railroad Company

Union Pacific Railroad Company (UP) has agreed to grant temporary overhead trackage rights to The Burlington Northern and Santa Fe Railway Company (BNSF) from UP's milepost 2.3 in Omaha, NE, to milepost 76.0 in Sioux City, IA, for a distance of 73.7 miles.¹

¹ On April 10, 2002, BNSF filed a petition for exemption in STB Finance Docket No. 34194 (Sub-No. 1), The Burlington Northern and Santa Fe Railway Company—Trackage Rights Exemption—Union Pacific Railroad Company, wherein BNSF requests that the Board permit the proposed temporary overhead trackage rights arrangement described in the present proceeding to expire on April 30, 2002. That petition will be addressed by the Board in a separate decision.

The transaction was scheduled to be consummated on April 15, 2002. The temporary trackage rights will allow BNSF to bridge its train service over the UP line while BNSF's main line is out of service due to maintenance.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34194, must be filed with the Surface Transportation Board, Case Control Unit, 1925 K Street, NW., Washington, DC 20423-0001. In addition, one copy of each pleading must be served on Michael E. Roper, Senior General Attorney, The Burlington Northern and Santa Fe Railway Company, P.O. Box 961039, Fort Worth, TX 76161-0039.

Board decisions and notices are available on our website at www.stb.dot.gov.

Decided: April 25, 2002.
By the Board, David M. Konschnik, Director, Office of Proceedings.
Vernon A. Williams,
Secretary.

[FR Doc. 02-10753 Filed 4-30-02; 8:45 am]

BILLING CODE 4915-00-P